DEPARTMENT OF JUSTICE

[CPCLO Order No. 002-2010]

Privacy Act of 1974; System of Records

AGENCY: INTERPOL-United States National Central Bureau (USNCB), Department of Justice.

SUMMARY: Pursuant to the Privacy Act of 1974 (5 U.S.C. 552a), notice is given that the USNCB is modifying a system of records notice, specifically the “INTERPOL-USNCB Records System, JUSTICE/INTERPOL-001,” last published in the Federal Register on April 10, 2002 at 67 FR 17464. This new notice includes additions to the Categories of Records in the System and the Purpose of the System. Changes are also being made to update the Routine Uses to reflect the additional purpose, and to conform with Department-wide model routine use language. No changes are made to the exemptions claimed for the system. The entire notice is republished for convenience to the public.

DATES: In accordance with 5 U.S.C. 552a (e)(4) and (11), the public is given a 30-day period in which to comment. The Office of Management and Budget (OMB), which has oversight responsibilities under the Privacy Act, requires that it be given a 40-day period in which to review the system. Therefore, please submit any comments by June 17, 2010

ADDRESSES: The public, OMB, and the Congress are invited to submit any comments to the Privacy Analyst, Office of Privacy and Civil Liberties, Department of Justice, National Place Building, 1331 Pennsylvania Avenue, Suite 940, Washington, DC 20530.

FOR FURTHER INFORMATION CONTACT: Kevin Smith, General Counsel, INTERPOL-USNCB, U.S. Department of Justice, Washington, DC 20530 at 202-616-4103.

SUPPLEMENTARY INFORMATION: Although the organization uses the names INTERPOL-USNCB and INTERPOL Washington for purposes of public recognition, the INTERPOL-USNCB is not synonymous with the International Criminal Police Organization (ICPO or INTERPOL), which is a private intergovernmental organization headquartered in Lyon, France. The Department of Justice USNCB serves as the United States liaison with the INTERPOL General Secretariat and works in cooperation with the National Central Bureaus of other member countries, but is not an agent, legal representative, nor organization subunit of the International Criminal Police Organization. The records maintained by the INTERPOL-USNCB are separate and distinct from records maintained by INTERPOL, and INTERPOL-USNCB does not have custody of, nor control over, the records of INTERPOL.

In accordance with 5 U.S.C. 552a (r), the Department has provided a report to OMB and the Congress.

Dated: April 29, 2010.
Nancy C. Libin,
Chief Privacy and Civil Liberties Officer.

Department of Justice

JUSTICE/INTERPOL-001

System Name:

INTERPOL-United States National Central Bureau (USNCB) Records System, JUSTICE/INTERPOL-001.

System Location:

INTERPOL-U.S. National Central Bureau, Department of Justice, Washington, DC 20530 .

Categories of Individuals Covered by the System:

Fugitives; wanted persons; criminal and non-criminal individuals who have been charged or convicted, or are subjects of a criminal investigation with international aspects; individuals who may be associated with stolen weapons, motor vehicles, artifacts, or similar items involved in a crime; victims related to humanitarian or criminal investigations; witnesses or confidential sources in a criminal investigation with international aspects; missing and/or abducted persons (including alleged abductors or other individuals associated with a missing or abducted person), and persons who are unable or unwilling to identify themselves; INTERPOL-USNCB, government and non-government contractors, judicial or law enforcement personnel engaged in the performance of official duties; applicants for a license, grant, contract or benefit; and applicants for positions with entities performing law enforcement and non-law enforcement functions.

Categories of Records in the System:

The program records of the INTERPOL-USNCB consist of criminal and non-criminal case files which support the law enforcement and humanitarian functions performed by INTERPOL-USNCB. The files contain electronic and hard copy records containing identifying particulars about covered individuals including fingerprints, names, aliases, places and dates of birth, addresses, photographs, physical descriptions, various identification numbers, DNA records or profiles, reason for the records or lookouts, and details and circumstances surrounding the actual or suspected violations, humanitarian requests or administrative/operational matters. Such records include criminal investigative reports; criminal history records; registration records for criminal offenders; USNCB case files and abstracts; applicant checks related to employment, security, and regulatory matters, licenses, grants, contracts, or benefits, and related data; electronic messages; e-mails; log sheets; notices; bulletins or posters; lookouts (temporary and permanent notices including identification information on an individual or item of interest to law enforcement authorities); warnings about potential threats to public safety from persons, events, or things; investigative notes; computer printouts; letters; memoranda; witness statements; and records related to deceased persons.

Authority for Maintenance of the System:

22 U.S.C. 263A, and 28 CFR 0.34.

Purpose(s):

The system manages data on foreign and domestic criminal and non-criminal, humanitarian, and related law enforcement matters. These records are maintained to assist and support international law enforcement cooperation. The data includes fingerprints, photographs, criminal investigative reports, criminal history records, registration records for criminal offenders, applicant checks, licenses, facsimiles, letters, memoranda, electronic messages, e-mails, bulletins, posters, log sheets, notices, investigative notes, computer printouts, and similar data. The data is used to facilitate the sharing of information among federal, state, local, and tribal law enforcement-related authorities in the United States, and foreign authorities engaged in law enforcement functions including: the investigation of crimes and criminal activities, obtaining evidence, enforcing and upholding the law, protecting against terrorism and other threats to public safety, the sharing of law enforcement techniques, prevention of crime, assistance in humanitarian matters, the location and arrest of fugitives and wanted persons, the location of missing persons, identification of unknown bodies, border and immigration control, screening for the purpose of establishing that an individual is not wanted or suspected of committing a crime, assisting in litigation, the sharing of criminal history and background information used for investigative purposes and to warn of possible threats to public safety or of someone likely to commit an offense, determinations regarding the suitability of applicants for employment, and the issuance of a license, grant, contract, or benefit.

Routine Uses of Records Maintained in the System, Including Categories of Users and the Purposes of Such Uses:

Information may be disclosed as follows:

(a) Where a record, either alone or in conjunction with other information, indicates a violation or potential violation of law—criminal, civil, or regulatory in nature—the relevant record may be referred to the appropriate foreign, federal, state, local, territorial, tribal, or foreign law enforcement authority or other appropriate entity charged with the responsibility for investigating or prosecuting such violation or charged with enforcing or implementing such law.

(b) To any person or entity, and to the public generally, to the extent necessary to obtain information or cooperation in efforts to locate, identify, or arrest, if appropriate, fugitives, wanted persons, subjects of investigations, witnesses, missing persons, abducted persons, and persons who are unable or unwilling to identify themselves.

(c) To any entity maintaining civil, criminal or other information when necessary to obtain information relevant to a decision by a foreign, federal, state, local, territorial, or tribal agency concerning the hiring, appointment, or retention of an employee; the issuance, renewal, suspension or revocation of a security clearance; the execution of a security or suitability investigation; the letting of a contract; or the issuance of a grant or benefit.

(d) To appropriate officials and employees of a federal agency or entity when the information is relevant to a decision concerning the hiring, appointment, or retention of an employee; the issuance, renewal, suspension or revocation of a security clearance; the execution of a security or suitability investigation; the letting of a contract; or the issuance of a grant or benefit.

(e) A record may be disclosed to designated officers and employees of foreign, state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(f) In an appropriate proceeding before a court, grand jury, or administrative or adjudicative body, when the Department of Justice determines that the records are arguably relevant to the proceeding; or in an appropriate proceeding before an administrative or adjudicative body when the adjudicator determines the records to be relevant to the proceeding.

(g) To such recipients and under such circumstances and procedures as are mandated by federal statute or treaty.

(h) To the International Criminal Police Organization (INTERPOL) General Secretariat and National Central Bureaus in member countries for criminal law enforcement, humanitarian purposes, and to warn about persons who are possible threats to public safety; and to the INTERPOL Commission for Control of Interpol's Files, an international board comprised of five members having oversight responsibilities regarding the purpose and scope of the information maintained and processed by INTERPOL, for the purpose of facilitating the Commission's functions of processing and responding to individuals' and other entities' requests to Interpol for information about Interpol files.

(i) To contractors, grantees, experts, consultants, students, and others performing or working on a contract, service, grant, cooperative agreement, or other assignment for the federal government, when necessary to accomplish an agency function related to this system of records.

(j) To the news media and the public, including disclosures pursuant to 28 CFR 50.2, unless it is determined that the release of the specific information in the context of a particular case would constitute an unwarranted invasion of personal privacy.

(k) To a Member of Congress or staff acting upon the Member's behalf when the Member or staff requests the information on behalf of, and at the request of, the individual who is the subject of the record.

(l) To the National Archives and Records Administration for purposes of records management inspections conducted under the authority of 44 U.S.C. 2904 and 2906.

(m) To federal, state, local, territorial, tribal, foreign, or international licensing agencies or associations which require information concerning the suitability or eligibility of an individual for a license or permit.

(n) To an actual or potential party to litigation or the party's authorized representative for the purpose of negotiation or discussion of such matters as settlement, plea bargaining, or in informal discovery proceedings.

(o) To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(p) A record relating to a case or matter that has been referred by an agency, or that involves a case or matter within the jurisdiction of an agency, or where the agency or its officials may be affected by a case or matter, may be disseminated to such agency to notify the agency of the status of the case or matter or of any decision or determination that has been made, or to make such other inquiries and reports as are necessary during the processing of the case or matter.

(q) To a foreign country, through the United States Department of State or directly to the representative of such country, to the extent necessary to assist such country in apprehending and/or returning a fugitive to a jurisdiction which seeks his return, or to assist such country in civil or criminal proceedings in which the United States or one of its officers or agencies has an interest.

(r) A record relating to a person held in custody pending or during arraignment, trial, sentence, or extradition proceedings, or after conviction or after extradition proceedings, may be disseminated to a federal, state, local, or foreign prison, probation, parole, or pardon authority, or to any other agency or individual concerned with the maintenance, transportation, or release of such a person.

(s) To a federal, state, local, tribal, foreign, or international law enforcement agency to assist in the general crime prevention and detection efforts of the recipient agency or to provide investigative leads to such agency.

(t) To any entity or person where there is reason to believe that the recipient is or could become the target of a particular criminal activity or conspiracy, to the extent the information is relevant to the protection of life or property.

(u) To appropriate agencies, entities, and persons when (1) it is suspected or confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Policies and Practices For Storing, Retrieving, Accessing, Retaining, and Disposing of Records in the System:

Storage:

Information is stored in paper and in electronic form at the INTERPOL-USNCB and at the Washington Federal Records Center. Certain limited data, e.g., that which concerns fugitives and wanted, missing, or abducted persons, and persons who are considered a threat to public safety, is stored in TECS, a system administered by Customs and Border Protection, U.S. Department of Homeland Security, and in the National Criminal Information Center (NCIC) [JUSTICE/FBI-001], for a limited time period, or until apprehended or located.

Retrievability:

Information is retrieved primarily by name, system identification number, personal identification numbers, passport numbers, and by weapon serial number or motor vehicle identification number.

Safeguards:

Information is safeguarded and protected in accordance with Department rules and procedures governing the handling of computerized information. Only those individuals specifically authorized have access to the INTERPOL-USNCB records. Access to INTERPOL-USNCB records is given only to those individuals who require access to perform official duties. In addition, USNCB information resides in the secured INTERPOL-USNCB offices that are staffed twenty-four hours a day, seven days a week. Automated data is password secured.

Retention and Disposal:

Case files closed as of April 5, 1982 and thereafter are disposed of as follows: The hard copy (paper record) will be retained on site at the INTERPOL-USNCB for two years after closing. At the end of the two years post closing, the hard copy will be transferred to the Washington National Records Center for storage. The hard copy (paper record) of the case file may be destroyed five years after transfer to the Washington National Records Center, for a total of seven years post closing, if there has been no case activity. Information contained in electronic case files will be stored on a compact disc two years after closing the case and sent to the Washington National Records Center for destruction in five years, or seven years after case closure, if there has been no case activity. Automated information will be flagged as an archived case and maintained on the LAN server for an indefinite period of time.

System Manager(s) and Address:

Director, INTERPOL-United States National Central Bureau, Department of Justice, Washington, DC 20530.

Records Management Officer, INTERPOL-United States National Central Bureau, Department of Justice, Washington, DC 20530.

Chief Information Officer, INTERPOL-United States National Central Bureau, Department of Justice, Washington, DC 20530.

Notification Procedure:

Inquiries regarding whether the system contains a record pertaining to an individual may be addressed to the Director, INTERPOL-United States National Central Bureau, Department of Justice, Washington, DC 20530, or to the Freedom of Information Act (FOIA) Specialist at the same location. To enable INTERPOL-USNCB personnel to determine whether the system contains a record relating to him or her, the requester must submit a written request identifying the record system, identifying the category and type of records sought, and providing the individual's full name and at least two items of secondary information (date of birth, social security number, employee identification number, or similar identifying information).

Record Access Procedures:

The Attorney General has exempted the INTERPOL-USNCB system from the access, contest, and amendment provisions of the Privacy Act. Some records may be available under the Freedom of Information Act. Inquiries should be addressed to the FOIA/PA Officer, INTERPOL-United States National Central Bureau, Department of Justice, Washington, DC 20530. The letter should be clearly marked “Freedom of Information Request” and a return address provided for transmitting any information to the requester. It should also include the Department of Justice Certificate of Identity (FORM DOJ-361, available on the USNCB Web site), or an equivalent statement certifying a requester's identity under penalty of perjury.

Contesting Record Procedures:

See “Record Access Procedures” above.

Record Source Categories:

Sources of information contained in this system include investigating reports, notes, correspondence, messages, photographs, fingerprints, and other identification materials from federal, state, local, tribal and foreign law enforcement and non-law enforcement agencies (including investigating reports from TECS or NCIC; other non-Department of Justice investigative agencies; client agencies of the Department of Justice); statements of witnesses and parties; and the work product of the staff of the INTERPOL-USNCB working on particular cases. Although the organization uses the names INTERPOL-USNCB and INTERPOL Washington for purposes of public recognition, the INTERPOL-USNCB is not synonymous with the International Criminal Police Organization (ICPO or INTERPOL), which is a private, intergovernmental organization headquartered in Lyon, France. The Department of Justice USNCB serves as the United States liaison with the INTERPOL General Secretariat and works in cooperation with the National Central Bureaus of other member countries, but is not an agent, legal representative, nor organization subunit of the International Criminal Police Organization. The records maintained by the INTERPOL-USNCB are separate and distinct from records maintained by INTERPOL and INTERPOL-USNCB does not have custody of, nor control over, the records of the International Criminal Police Organization.

Exemptions Claimed For The System:

The Attorney General has exempted this system from subsections (c)(3) and (4), (d), (e)(1), (2), and (3), (e)(4)(G) and (H), (e)(5) and (8), (f), and (g) of the Privacy Act pursuant to 5 U.S.C. 552a(j)(2), and (k)(2) and (k)(5). Rules have been promulgated in accordance with the requirements of 5 U.S.C. 553(b), (c) and (e) and have been published in the Federal Register. See 28 CFR 16.103.

[FR Doc. 2010-11770 Filed 5-17-10; 8:45 am]

BILLING CODE 4410-BC-P